DEPARTMENT OF AGRICULTURE

Agricultural Marketing Service

[Doc. No. AMS-LP-20-0073]

Request for Approval of a New Information Collection for Accounts Payable Information Request

AGENCY: Agricultural Marketing Service, USDA.

ACTION: Notice and request for comments.

SUMMARY: In accordance with the Paperwork Reduction Act of 1995, this notice announces the U.S. Department of Agriculture (USDA), Agricultural Marketing Service's (AMS) intention to request approval from the Office of Management and Budget (OMB), for a new information collection used in support of the voluntary grading and certification of meat, meat products, shell eggs, poultry products, rabbit products, and Quality Systems Verification Programs. One new form is introduced in this information collection. The new form, LP-109A requests respondents accounts payable contact information used in facilitating billing administration.

DATES: Submit comments on or before June 7, 2021.

ADDRESSES: Interested persons are invited to submit comments concerning this notice by using the electronic process available at www.regulations.gov. Written comments may also be submitted to Quality Assessment Division; Livestock and Poultry Program; AMS, USDA; 1400 Independence Avenue SW, Stop 0258; Washington, DC 20250-0258. All comments should reference the docket number AMS-LP-20-0073, the date of submission, and the page number of this issue of the Federal Register. All comments received will be posted without change, including any personal information provided, at www.regulations.gov and will be included in the record and made available to the public.

FOR FURTHER INFORMATION CONTACT: Julie Hartley, Branch Chief, Quality Assessment Division (QAD); (202) 720-7316; or email julie.hartley@usda.gov.

SUPPLEMENTARY INFORMATION:

Overview of This Information Collection

Agency: USDA, AMS.

Title: Accounts Payable Information Request.

OMB Number: 0581-NEW.

Type of Request: New Information Collection.

Abstract: The Agricultural Marketing Act of 1946 (AMA) (7 U.S.C. 1621-1627) directs and authorizes USDA to develop and improve standards of quality, grades, grading programs, and certification services which facilitate the marketing of agricultural products. To provide programs and services, section 203(h) of the AMA (7 U.S.C. 1622(h)) directs and authorizes the Secretary of Agriculture (Secretary) to inspect, certify, and identify the class, quality, quantity, and condition of agricultural products under such rules and regulations as the Secretary may prescribe, including assessment and collection of fees for the cost of service. The regulations in 7 CFR 54, 56, and 70 provide a voluntary program for grading, certification and standards of meats, prepared meats, meat products, shell eggs, poultry products, and rabbit products. The regulation in 7 CFR 62—Quality Systems Verification Programs provides for voluntary, audit-based, user-fee funded programs that allow applicants to have program documentation and program processes assessed by AMS auditor(s) and other USDA officials.

AMS also provides other types of voluntary services under these regulations, including contract and specification acceptance services and verification of product, processing, further processing, temperature, and quantity. Because this is a voluntary program, respondents request or apply for the specific service they wish, and in doing so, they provide information.

To assist AMS billing administration for providing voluntary services, AMS intends to create a new form to request respondents accounts payable contact information. The new form, LP-109A: Accounts Payable Information Request will increase accuracy and efficiency in billing administration by having the applicable contact responsible for receiving billing statements and submitting payment for services rendered.

The information collected is used only by authorized representatives of USDA AMS, Livestock and Poultry Program's QAD national and field staff and is used to administer services requested by respondents.

The information collection requirements in this request are essential to carry out the intent of AMA, to provide the respondents the type of service they request, and to administer the program.

Upon OMB approval of the new Form LP-109A and the information collection package, AMS will request OMB approval to merge the new form and this information collection into the currently approved information collection OMB control number 0581-0128 approved on March 31, 2017.

Estimate of Burden: Public reporting burden for this collection of information is estimated to average 5 minutes per response.

Respondents: Livestock, meat, poultry, shell egg industries, or other agricultural enterprises; state or local governments; or other businesses or organizations.

Estimated Number of Respondents: 164.

Estimated Number of Responses per Respondent: 1.

Estimated Number of Responses: 164.

Estimated Total Annual Burden on Respondents: 13.66 hours.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology.

All responses to this notice will be summarized and included in the request for OMB approval. All comments will become a matter of public record, including any personal information provided.

Bruce Summers,
Administrator, Agricultural Marketing Service.

[FR Doc. 2021-07037 Filed 4-5-21; 8:45 am]

BILLING CODE 3410-02-P